Title 3—

The President

Proclamation 8905 of November 15, 2012

America Recycles Day, 2012

By the President of the United States of America

A Proclamation

For 15 years, our country has celebrated America Recycles Day as a time to focus on conserving valuable materials, keeping our communities clean, and protecting our environment. Today, we reflect on the progress we have made toward fulfilling those important goals and rededicate ourselves to building a more sustainable future.

Each year, recycling puts millions of pounds of valuable materials back into use. By diverting old products from the landfill to the factory floor, we take meaningful steps toward a greener economy and help power an entire industry centered on recycling, reuse, and refurbishing. We also reduce or avoid the environmental impacts of using virgin materials.

As many of us prepare to gather with families and friends this Thanksgiving, America Recycles Day offers a chance to highlight another resource that is too often taken for granted: food. Though many Americans lack access to regular, nutritious meals, much of our country's food goes to waste. To put surplus food to better use, the Environmental Protection Agency is partnering with businesses and organizations in the Food Recovery Challenge, which is helping participants support their communities through food donation and protect their bottom line by reducing waste. By consuming carefully and donating what we can, each of us can join in that important work. Food banks and pantries accept wholesome food that meets quality and safety standards, as do many national and local food recovery programs. Through giving to those in need, all Americans can lift up their communities while helping protect the environment we share.

Aldo Leopold once said that conservation is “a positive exercise of skill and insight, not merely a negative exercise of abstinence and caution.” With that important lesson in mind, let us commemorate America Recycles Day by taking bold action to preserve our natural resources, strengthen our economy, and protect the bountiful landscapes we have been blessed with.

NOW, THEREFORE, I, BARACK OBAMA, President of the United States of America, by virtue of the authority vested in me by the Constitution and the laws of the United States, do hereby proclaim November 15, 2012, as America Recycles Day. I call upon the people of the United States to observe this day with appropriate programs and activities, and I encourage all Americans to continue their reducing, reusing, and recycling efforts throughout the year.

IN WITNESS WHEREOF, I have hereunto set my hand this fifteenth day of November, in the year of our Lord two thousand twelve, and of the Independence of the United States of America the two hundred and thirty-seventh.

[FR Doc. 2012-28387

Filed 11-19-12; 11:15 am]

Billing code 3295-F3